DEPARTMENT OF THE INTERIOR

Bureau of Land Management

[WY-957-07-9820-BJ-WY03]

Notice of Filing of Plats of Survey, Wyoming

AGENCY: Bureau of Land Management, Interior.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the United States Department of Agriculture, Forest Service, Medicine Bow National Forest and is necessary for the management of these lands. The lands surveyed are:

The plat and field notes representing the dependent resurvey of a portion of the east boundary, a portion of the west boundary, a portion of the subdivisional lines, and the subdivision of certain sections, Township 18 North, Range 79 West, Sixth Principal Meridian, Wyoming, was accepted May 14, 2007.

Copies of the preceding described plat and field notes are available to the public at a cost of $1.10 per page.

Dated: May 14, 2007.
John P. Lee,
Chief Cadastral Surveyor, Division of Support Services.

[FR Doc. E7-9653 Filed 5-18-07; 8:45 am]

BILLING CODE 4467-22-P